UNITED STATES INSTITUTE OF PEACE

Notice of Meeting

AGENCY: United States Institute of Peace.

Date/Time: Thursday, April 23, 2009; 9:30 a.m.-3:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Pub. L. 98-525.

Agenda: April 23, 2009 Board Meeting; Approval of Minutes of the One Hundred Thirty-Second Meeting (January 9, 2009) of the Board of Directors; Chairman's Report; President's Report; Education and Training Center Update; Budget Update; Selection of Peace Scholars; Selection of National Peace Essay Contest Winners; Other General Issues.

Contact: Tessie F. Higgs, Executive Office, Telephone: (202) 429-3836.

Dated: April 2, 2009.
Michael Graham,
Executive Vice President, United States Institute of Peace.

[FR Doc. E9-8109 Filed 4-10-09; 8:45 am]

BILLING CODE 6820-AR-M